DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before May 15, 2001.

Address Comments to: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemptions is published in accordance with Part 107 of the Federal hazardous materials transportation law (49 U.S.C. 5117(b); 49 CFR 1.53(b)).

Issued in Washington, DC, on April 23, 2001.
J. Suzanne Hedgepeth,
Director, Office of Hazardous Materials, Exemptions and Approvals.

Application No. | Docket No. | Applicant | Modification of exemption
8308-M |  | American Courier Express Corporation, Miramar, FL (See Footnote 1) | 8308
10441-M |  | Battelle, Richland, WA (See Footnote 2) | 10441
11226-M |  | E.R. Carpenter, L.P. Pasadena, TX (See Footnote 3) | 11226
11344-M |  | E.I. DuPont de Nemours and Company, Inc., Wilmington, DE (See Footnote 4) | 11344
11473-M |  | Astaris, LLC, St. Louis, MO (See Footnote 5) | 11473
12003-M | RSPA-97-3231 | Degussa Corporation, Parisippany, NJ (See Footnote) | 12003
12084-M | RSPA-98-3941 | Honeywell International, Inc., Morristown, NJ (See Footnote 7) | 12084
12606-M | RSPA-01-8608 | Toyota Motor Sales, U.S.A., Inc., Torrance, CA (See Footnote 8) | 12606
12663-M | RSPA-01-9381 | Skolnik Industries, Chicago, IL (See Footnote 9) | 12663
12664-M | RSPA-01-9474 | Myers Container Corporation, Huntington, Park, CA (See Footnote 10) | 12664
12665-M | RSPA-01-9475 | Packaging Specialties, Inc., Medina, OH (See Footnote 11) | 12665
(1) To modify the exemption to authorize a change to the reporting requirements which assess radiation exposure to employees working under the exemption.
(2) To modify the exemption to allow for the transportation of Class 3, 8, 9, Division 4.1, 4.2, 4.3, and 5.1 materials in lab-packs on the same vehicle with non-lab packed acidic materials.
(3) To modify the exemption to authorize tank cars to be unloaded using an alternative monitoring system.
(4) To modify the exemption to allow for the transportation of Division 4.3, Class 9 and additional Class 3, 8 and Division 6.1 materials in tank cars.
(5) To modify the exemption to remove language for tank cars with a safety relief device having a start-to-discharge pressure of 44.1 percent of the tank test pressure.
(6) To modify the exemption to authorize the inclusion of four additional DOT specification IM 101 steel portable tanks for the transportation of hydrogen peroxide, stabilized, that exceeds the 72 percent maximum concentration.
(7) To modify the exemption to allow for the transportation of Division 2.1 and 2.3 materials in DOT Specification 4B, 4BA and 4BW cylinders that have alternative retest requirements.
(8) To reissue the exemption originally issued on an emergency basis for the one-way transportation of certain Class 9 materials by motor vehicle from port of entry to a distribution facility, within 60 miles, without “EX” number on the shipping papers.
(9) The reissue the exemption originally issued on an emergency basis authorizing the use of UN standard steel drums that do not conform to the markeing requirements of the hazardous materials regulations.
(10) To reissue the exemption originally issued on an emergency basis authorizing the use of UN standard steel drums that do not conform to the marking requirements of the hazardous materials regulations.
(11) To reissue the exemption originally issued on an emergency basis authorizing the use of UN standard steel drums that do not conform to the marking requirements of the hazardous materials regulations.

[FR Doc. 01-10570 Filed 4-27-01; 8:45am]

BILLING CODE 4910-60-M